DEPARTMENT OF ENERGY

Federal Energy Regulatory Commission

Combined Notice of Filings

Take notice that the Commission has received the following Natural Gas Pipeline Rate and Refund Report filings:

Filings Instituting Proceedings

Docket Numbers: RP19-1395-000.

Applicants: Southern Natural Gas Company, L.L.C.

Description: § 4(d) Rate Filing: Operational Sales of Gas Using the ICE Platform to be effective 9/1/2019.

Filed Date: 7/24/19.

Accession Number: 20190724-5002.

Comments Due: 5 p.m. ET 8/5/19.

Docket Numbers: RP19-1396-000.

Applicants: Transcontinental Gas Pipe Line Company, LLC.

Description: § 4(d) Rate Filing: Non-Conforming—Rivervale South to be effective 9/1/2019.

Filed Date: 7/24/19.

Accession Number: 20190724-5036.

Comments Due: 5 p.m. ET 8/5/19.

Docket Numbers: RP19-1397-000.

Applicants: Panhandle Eastern Pipe Line Company, LP.

Description: § 4(d) Rate Filing: Housekeeping to Remove Obsolete Tariff Provisions to be effective 8/25/2019.

Filed Date: 7/25/19.

Accession Number: 20190725-5002.

Comments Due: 5 p.m. ET 8/6/19.

Docket Numbers: RP19-1398-000.

Applicants: Algonquin Gas Transmission, LLC.

Description: § 4(d) Rate Filing: Negotiated Rates—Exelon from various releasers eff 8-1-19 to be effective 8/1/2019.

Filed Date: 7/25/19.

Accession Number: 20190725-5025.

Comments Due: 5 p.m. ET 8/6/19.

Docket Numbers: RP19-1399-000.

Applicants: Eastern Shore Natural Gas Company.

Description: § 4(d) Rate Filing: General Clean up—Section 9 to be effective 7/26/2019.

Filed Date: 7/25/19.

Accession Number: 20190725-5058.

Comments Due: 5 p.m. ET 8/6/19.

Docket Numbers: RP19-1400-000.

Applicants: Texas Eastern Transmission, LP.

Description: § 4(d) Rate Filing: Negotiated Rate—Range release to Castleton 8958406 to be effective8/1/2019.

Filed Date: 7/26/19.

Accession Number: 20190726-5023.

Comments Due: 5 p.m. ET 8/7/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 29, 2019.
Nathaniel J. Davis, Sr.,
Deputy Secretary.

[FR Doc. 2019-16489 Filed 8-1-19; 8:45 am]

BILLING CODE 6717-01-P